DEPARTMENT OF HEALTH AND HUMAN SERVICES

Administration for Children and Families

Proposed Information Collection Activity; Comment Request

Title: Project LAUNCH Cross-Site Evaluation.

OMB No.: 0970-0373.

Description: The Administration for Children and Families (ACF), U.S. Department of Health and Human Services, is collecting data as part of a cross-site evaluation of a Substance Abuse and Mental Health Services Administration(SAMHSA) initiative called Project LAUNCH (Linking Actions for Unmet Needs in Children's Health). Project LAUNCH promotes the healthy development and wellness of children ages birth to eight years. A total of 35 Project LAUNCH grantees are funded to improve coordination among child-serving systems, build infrastructure, and improve methods for providing services. Grantees implement a range of public health strategies to support young child wellness in a designated locality.

Grants were awarded in four cohorts. Three of these cohorts will end on a rolling basis over the next three years and one cohort of grantees was recently awarded and will end in five years. Annual estimates of burden take into account rolling graduation of cohorts and represent an average of burden over three years.

Data for the cross-site evaluation of Project LAUNCH will be collected through: (1) Interviews conducted either via telephone or during site-visits to Project LAUNCH grantees, (2) semi-annual reports that will be submitted electronically on a web-based data reporting system, and (3) outcome data tables included in grantee specific end-of-year evaluation reports.

During either telephone interviews or the site visits, researchers will conduct interviews with Project LAUNCH service providers and collaborators in states/tribes and local communities of focus. Interviewers will ask program administrators questions about all Project LAUNCH activities, including: Infrastructure development; collaboration and coordination among partner agencies, organizations, and service providers; and development, implementation, and refinement of service strategies.

As part of the proposed data collection, Project LAUNCH staff will be asked to submit semi-annual electronic reports on state/tribal and local systems development and on services that children and families receive. The electronic data reports also will collect data about other Project LAUNCH-funded service enhancements, such as trainings, Project LAUNCH systems change activities, and changes in provider settings and practice. Information provided in these reports will be aggregated on a quarterly basis, and reported semi-annually.

As a final part of the proposed data collection, the cross-site evaluation will utilize outcome data provided by grantee evaluators as part of their end-of-year evaluation reports to the SAMHSA. Information provided in these reports is aggregated.

Respondents: State/Tribal Child Wellness Coordinator, Local Child Wellness Coordinator, Chair of the State/Tribal Child Wellness Council (during site visit only), Chair of the Community Child Wellness Council, and Local Service Providers/Stakeholders.

Annual Burden Estimates
Instrument | Total number of respondents | Number of responses per respondent | Average burden hours per response | Total burden hours | Annual burden hours
Child Wellness Coordinator Interview Guide | 19 | 1 | 1.5 | 87 | 29
Chair of Local Child Wellness Council Interview Guide | 19 | 1 | 1 | 57 | 19
Local Stakeholder Interview Guide | 114 | 1 | .75 | 258 | 86
State Child Wellness Coordinator Interview Guide | 19 | 1 | 1.25 | 72 | 24
Chair of State Child Wellness Council Interview Guide | 11 | 1 | 1.25 | 14 | 14
Electronic Data Reporting: Systems Measures | 19 | 2 | 4 | 456 | 152
Electronic Data Reporting: Services Measures | 19 | 2 | 8 | 912 | 304
Outcomes Data Tables in End of Year Reports | 27 | 1 | 8 | 648 | 216

Estimated Total Annual Burden Hours: 844.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-03787 Filed 2-21-13; 8:45 am]

BILLING CODE 4184-22-M